DEPARTMENT OF TRANSPORTATION

Federal Aviation Administration

14 CFR Part 71

[Docket No. FAA-2006-26155; Airspace Docket No. 06-ASO-15]

Removal of Class E Airspace; Cedar Springs, GA

AGENCY: Federal Aviation Administration (FAA), DOT.

ACTION: Final rule.

SUMMARY: This action will remove the Class E airspace at Cedar Springs, GA. The Georgia-Pacific Airport, Cedar Springs, GA, is permanently closed and is no longer operational. The closure necessitates the removal of Class E airspace.

EFFECTIVE DATE: 0901 UTC, January 18, 2007. The Director of the Federal Register approves this incorporation by reference action under 1 CFR part 51, subject to the annual revision of FAA Order 7400.9 and publication of conforming amendments.

FOR FURTHER INFORMATION CONTACT: Mark D. Ward, Group Manager, System Support, AJO-2E2, Eastern Service Center, Federal Aviation Administration, P.O. Box 20636, Atlanta, Georgia 30320; telephone (404) 305-5627.

SUPPLEMENTARY INFORMATION:

History

On July 17, 2006, the Georgia-Pacific Airport, Cedar Springs, GA, was permanently closed and airport operations terminated. The closure, therefore, requires the removal of Class E5 airspace. This rule becomes effective on the date specified in the EFFECTIVE DATE section. Since this action eliminates the impact of controlled airspace on users of airspace in the vicinity of Cedar Springs, GA, notice and public procedure under 5 U.S.C. 553(b) are not necessary. Designations for Class E airspace areas extending upward from 700 feet or more above the surface of the earth are published in paragraph 6005 of FAA Order 7400.9P, dated September 16, 2006, and effective September 16, 2006, which is incorporated by reference in 14 CFR 71.1. The Class E airspace designations listed in this document will be published subsequently in the Order.

The Rule

This amendment to part 71 of the Federal Aviation Regulations (14 CFR part 71) removes Class E5 airspace at Cedar Springs, GA.

The FAA has determined that this regulation only involves an established body of technical regulations for which frequent and routine amendments are necessary to keep them operationally currently. If, therefore, (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; AND REPORTING POINTS

1. The authority citation for 14 CFR part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9P, Airspace Designations and Reporting Points, dated September 16, 2006, and effective September 16, 2006, is amended as follows:

Paragraph 6005 Class E Airspace Areas Extending Upward from 700 feet or More Above the Surface on the Earth.

* * * * *

ASO GA E 5 Cedar Springs, GA [Remove]

Cedar Springs, Georgia-Pacific Airport, GA

(Lat. 31°08′26″ N, long. 85°02′48″ W)

That airspace extending upward from 700 feet or more above the surface of the earth within a 6.4-mile radius of Georgia-Pacific Airport.

* * * * *

Issued in College Park, Georgia, on October 26, 2006.
Mark D. Ward,
Group Manager, System Support, Eastern Service Center.

[FR Doc. 06-9231 Filed 11-21-06; 8:45 am]

BILLING CODE 4910-13-M